NATIONAL AERONAUTICS AND SPACE ADMINISTRATION

[Notice (00-075)]

Notice of Prospective Patent License

AGENCY: National Aeronautics and Space Administration.

ACTION: Notice of prospective patent license.

SUMMARY: NASA hereby gives notice that Cytec Industries, Inc., of Five Garret Mountain Plaza, West Paterson, NJ 07424, has applied for an exclusive patent license to practice the invention described and claimed in NASA Case Number LAR 15449-1 entitled “METHOD TO PREPARE PROCESSABLE POLYIMIDES WITH REACTIVE ENDGROUPS USING 1, 3 BIS (3-AMINOPHENOXY) BENZENE,” which has been assigned to the United States of America as represented by the Administrator of the National Aeronautics and Space Administration. Written objections to the prospective grant of a license should be sent to Langley Research Center.

DATE: Responses to this notice must be received by September 5, 2000.

FOR FURTHER INFORMATION CONTACT: Hillary W. Hawkins, Patent Attorney, Langley Research Center, Mail Stop 212, Hampton, VA 23681-2199; Telephone (757) 864-8882; Fax (757) 864-9190.

Dated: June 28, 2000.
Edward A. Frankle,
General Counsel.

[FR Doc. 00-16902 Filed 7-3-00; 8:45 am]

BILLING CODE 7510-01-P